DEPARTMENT OF LABOR

Employment and Training Administration

[NAFTA-05149]

OBG Manufacturing/Distribution Company, Oshkosh B'Gosh, Inc., Albany, KY; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 U.S.C. 2273), an investigation was initiated on July 30, 2001, in response to a petition filed on behalf of workers at OBG Manufacturing/Distribution Company, OshKosh B'Gosh, Inc., Albany, Kentucky.

An active certification covering the partitioning group of workers is already in effect (NAFTA-04468A, as amended). Consequently, further investigation in this case would serve no purpose, and the investigation has been terminated.

Signed at Washington, DC, this 4th day of September, 2001.
Edward A. Tomchick,
Director, Division of Trade Adjustment Assistance.

[FR Doc. 01-23535 Filed 9-20-01; 8:45 am]

BILLING CODE 4510-30-M